DEPARTMENT OF THE INTERIOR

Bureau of Land Management

[ES-960-5420-M103]

Notice of Application for Recordable Disclaimer of Interest, Louisiana

AGENCY: Bureau of Land Management, Interior.

ACTION: Notice.

SUMMARY: New Way Investments, Inc. has submitted an application for a recordable disclaimer of interest pursuant to section 315 of the Federal Land Policy and Management Act of 1976, as amended (43 U.S.C. 1745), and the regulations contained in 43 CFR Part 1864. A recordable disclaimer, if issued, will confirm that the United States has no valid interest in the subject lands. This notice is intended to inform the public of the pending application.

DATES: A final decision on the merit of the application will not be made until 90 days after the date of publication of this notice. During the 90-day period, interested parties may submit comments on New Way Investments, Inc.'s application, with a reference to serial No. LAES 53473.

ADDRESSES: Comments should be sent to: Theresa R. Coleman, Deputy State Director, Division of Land Resources, Bureau of Land Management-Eastern States, 7450 Boston Boulevard, Springfield, Virginia 22153.

FOR FURTHER INFORMATION CONTACT: Ida V. Doup, Chief, Branch of Lands and Realty, Bureau of Land Management-Eastern States, 7450 Boston Boulevard, Springfield, Virginia 22153; 703-440-1541.

SUPPLEMENTARY INFORMATION: On April 5, 2005, New Way Investments, Inc. filed an application for disclaimer of interest for the lands described as follows:

Louisiana Meridian, Louisiana beginning at the Southwest corner of Section 47, T. 4 N., R 3 W., Rapides Parish, Louisiana common with the Southeast corner of Section 36, T. 4 N., R. 4 W., Rapides Parish, Louisiana, for the point of beginning and thence proceed along the South line of Section 47, T. 4 N., R.3 W., Rapides Parish, Louisiana, as recognized by Jerry Boswell on plat of survey dated September 30, 1992, South 89 degrees 11 minutes 54 seconds East a distance of 2,206.27 feet to a point and corner; thence proceed South 00 degrees 19 minutes 26 seconds West a distance of 23.90 feet to a point on the North line of Section 6, T. 3 N., R. 3 W., as recognized by Jerry Boswell on plat of survey dated September 30, 1992, thence proceed along the North line of Section 6, T. 3 N., R. 3 W., as recognized by Jerry Boswell on plat of survey dated September 30, 1992, North 89 degrees 23 minutes 26 seconds West a distance of 2,206.31 feet to a point and corner, thence proceed North 00 degrees 28 minutes 51 seconds East a distance of 31.33 feet back to the point of beginning of the 1.40 acres tract shown on the Certificate of Survey by Jessie P. Lachney dated February 3, 2005.

Bureau of Land Management-Eastern States' review of the official survey records on file indicates that the line between Townships 3 and 4 North is a line common to both section 6 and section 47. There is no indication of a gap or hiatus. As lands for section 47, Township 4 North, Range 3 West and section 6, Township 3 North, Range 3 West have been patented into private ownership, it is the opinion of this office that the Federal government no longer has an interest in this 1.40-acre parcel. The proposed recordable disclaimer of interest, if issued, will state the United States does not have a valid interest in this land.

All persons who wish to present comments, suggestions, or objections, in connection with the pending application and proposed disclaimer may do so by writing to Theresa R. Coleman, Deputy State Director, Division of Land Resources, at the above address.

Michael D. Nedd,
State Director, Eastern States.

[FR Doc. 06-1537 Filed 2-17-06; 8:45 am]

BILLING CODE 4310-GJ-M